DEPARTMENT OF TRANSPORTATION

Research and Innovative Technology Administration

Wireless Innovation for Transportation; Request for Information

AGENCY: Research and Innovative Technology Administration (RITA), U.S. Department of Transportation (USDOT).

ACTION: Notice.

SUMMARY: This notice is a Request for Information (RFI) and comments that will be used to help identify research and development (R&D) opportunities for wireless technology in surface transportation. The President's Wireless Infrastructure and Innovation Initiative includes a proposed $100M R&D investment to spur innovative wireless applications in surface transportation that advance the Administration's safety, mobility, and environmental sustainability agenda. Feedback and comments on any aspect of the RFI are welcomed from all interested public, private, and academic entities, and individuals. While all feedback is welcomed, the USDOT is particularly interested in feedback on the questions provided in the last section of this RFI.

RFI Guidelines: Responses to this RFI must be submitted by June 13, 2011. Responses to this RFI should be delivered electronically as an e-mail or as an attachment to an e-mail sent to winits@dot.gov.

Responses to this notice are not offers and cannot be accepted by the Government to form a binding contract, to issue a grant or cooperative agreement, or to make any other funding or partnership commitment. Information obtained as a result of this RFI may be used by the government for program planning. If you wish to submit any information under a claim of confidentiality, you should submit via email to the address given below under FOR FURTHER INFORMATION CONTACT, your complete submission, including the information you claim to be confidential commercial information. When you submit information containing information identified as confidential commercial information, you should include a cover letter setting forth the reasons you believe the information qualifies as “confidential commercial information.” (49 CFR 7.13(c)(4) and 7.17) If we receive a request to examine or copy this information, we will treat it as any other request under the Freedom of Information Act (5 U.S.C. 552), but we will process the request in accordance with the procedures found in 49 CFR 7.17.

FOR FURTHER INFORMATION CONTACT: For questions about the program discussed herein, please contact Mr. John Augustine, Intelligent Transportation Systems Joint Program Office (ITS JPO), 202-366-9536, john.augustine@dot.gov. For legal questions or issues, please contact Robert Monniere, RITA, 202-366-5498, Robert.Monniere@dot.gov, 1200 New Jersey Avenue, SE., Washington, DC 20590. Office hours for RITA are generally from 8 a.m. to 4:30 p.m., Eastern Standard Time, Monday through Friday, except Federal holidays. Additional information about the USDOT's planned work under the Wireless Innovation and Infrastructure Initiative is at http://www.dot.gov/budget/2012/budgetestimates/rita.pdf and http://www.rita.dot.gov/publications/budget_estimates/fy2012/html/detailed_justification_for_its_wireless.html.

SUPPLEMENTARY INFORMATION: In February, 2011, President Obama announced the Wireless Innovation and Infrastructure Initiative. (http://www.whitehouse.gov/sites/default/files/microsites/ostp/Wi3-fs.pdf).

As part of this initiative, a total of $3 billion raised from voluntary spectrum incentive auctions would be used to create a Wireless Innovation (WIN) Fund. This fund would aim to catalyze innovation by funding research and development of emerging broadband wireless technologies and applications. The WIN fund is intended to advance economic growth and competitiveness by supporting the nationwide rollout of the next generation broadband cellular (e.g. 4G) technologies, supporting development of new applications that leverage that rollout, and paving the way for other new technologies that result in accelerated benefits to the American people. Overall, the fund will support basic research, experimentation and testbeds, as well as applied development areas such as public safety, education, energy, health, economic development, and transportation. The transportation portion of the WIN Fund, which will focus on initiatives above and beyond the existing core Intelligent Transportation Systems (ITS) programs at USDOT, will provide an additional $100 million in funding over a five year period to create an ITS Wireless Innovation for Transportation program. This RFI seeks to obtain public input regarding the optimal use of the WIN funding to expedite the investment, development, deployment and use of broadband wireless applications to address our nation's transportation needs.

Broadband wireless systems consist of several different classes of technology. The most commonly thought of is a wide area, potentially ubiquitous coverage systems such as cellular, including for example, 4th generation cellular or “4G.” However, fixed or mobile local-area coverage such as Wi-Fi, as well as fixed point-to-point, and point-to-multipoint wireless systems may all be used either individually or together to achieve the goal of providing broadband access to all Americans and a platform for innovation. Several complementary technologies may be used for each class of system. This RFI focuses on mobile wireless broadband technologies and applications for surface transportation, including both wide area and local area systems.

Wireless Innovation for Transportation—Program Description

The Wireless Innovation for Transportation Program (WIN for Transportation) will provide the USDOT's ITS Program and its stakeholders the ability to seek new and innovative opportunities to pursue ground-breaking research and development toward deployment of wireless technology applications. It will develop and demonstrate innovative wireless transportation applications that deliver safety, mobility, emergency response, energy, and/or environmental benefits to both passenger, fleet and freight transportation systems. The WIN for Transportation program compliments and builds upon the USDOT's ongoing ITS research program (http://www.its.dot.gov), but will be funded separately from the existing ITS Program. It is proposed that the WIN for Transportation program will:

• Use “living laboratories” in a competitively-selected region or corridor where innovative broadband wireless communications methods and applications can be safely evaluated in an operating environment. These living laboratories will leverage other public and private investments.

• Create broadband wireless “fast lanes” for multi-modal transportation applications such as real-time safety inspections, reporting, and access nationwide, including in underserved rural areas and at border crossings.

• Work with state inspection and public safety partners, along with other Federal agencies, to deploy rural wireless access points in areas of critical need for enhanced emergency communications.

• Require that all applications discourage distracted driving/operations and uncover advances that can work to reduce driver workload.

The USDOT has issued this RFI to help determine the most promising technologies and applications to pursue. Responders are reminded that feedback or comments on any aspect of this notice are welcomed from all interested public, private, and academic entities and individuals. While all feedback is encouraged, the USDOT is particularly interested in feedback on the following questions. Respondents may respond, to some, all, or none of these specific questions. Each question should be considered in the context of whether or not investment of all or part of the five year, $100 million Wireless Innovation for Transportation funding would provide incentives for innovation toward realization of substantial new service and public benefits and/or substantially accelerate the accrual of such benefits.

1. The Federal Communications Commission (FCC)'s National Broadband Plan and the President's Wireless Innovation and Infrastructure Initiative jointly aim to provide broadband access to 98% of all Americans within five years. Providing coverage for citizens and businesses accessing the Internet may be very different than providing coverage for surface transportation applications. For example, there may be rural highway rail intersections, border crossings in lightly populated areas, or roads over mountain passes that experience severe weather that would benefit from ITS applications.

a. What types of rural and sparsely populated locations and what applications would benefit from this type of broadband deployment?

b. What research is needed for techniques such as Machine-to-Machine (M2M) communications that would be needed to implement these applications?

c. What research is needed on alternative broadband approaches other than cellular that may be either more suitable or more cost-effective to deploy broadband mobile wireless in these areas?

2. The overall Wireless Innovation and Infrastructure Initiative has provisions for accelerating the implementation of a nationwide interoperable broadband public safety network. This network would be based on LTE (Long Term Evolution) cellular technology, be built to public safety reliability specifications (public safety grade) and would be capable of transmitting voice, video, images, and multimedia communications. Both public transit (including transit police) and highway maintenance and incident response personnel are eligible to use public safety networks.

a. What ITS applications could be enabled on these networks that cannot be implemented on the existing public safety narrowband radio systems transportation agencies and organizations currently use?

b. If a nationwide public safety broadband network were implemented allowing state departments of transportation (DOTs), public transit properties, and first responders to use broadband interoperable communications equipment, what new ITS applications, operations, and procedures could be implemented for emergency response, coordination with first responders, and disaster response?

c. How might such a network be used to coordinate emergency operations such as evacuations with local, State, and Federal law enforcement and emergency response personnel?

3. The growing use of alternative fuel vehicles brings new challenges. What innovative broadband wireless applications would support the use of alternative fuel vehicles? For example, traveler information is traditionally based on shortest route or fastest route. For alternative fuel vehicles, it may be more important to consider additional parameters such as real time routing based on High-Occupancy Vehicle (HOV) lanes open to alternative fuel vehicles, exemption of alternative fuel vehicles from tolls, authorizing access of alternative fuel vehicles into restricted-access, environmentally-sensitive areas (e.g., “nonattainment areas” as defined by U.S Environmental Protection agency, National Parks, National Monuments, etc.), special corridors (such as the “Hydrogen Highway” in California), the range of the vehicle, vertical terrain, and the location of potential stations supporting the alternative fuel source. What unique challenges are faced by alternative fuel vehicles, and what mobile broadband-based applications might best address them?

4. In addition to addressing the unique challenges facing alternative fuel vehicles, how can the WIN for Transportation program help address issues related to reducing the use of non-renewable fuels and to reducing greenhouse gas emissions from transportation vehicles? What specific research and development areas might be undertaken with these reductions in mind? For example, how could innovative wireless broadband technology be used to monitor unnecessary idling of commercial vehicles, such as idling that does not occur at an intersection, stop sign, or at a bus stop and does not occur for power-take-off?

5. How would the provision of open, real-time, anonymous traffic and travel condition data via wireless broadband significantly increase opportunities for entrepreneurs to develop innovative transportation applications, as the provision of public, standardized transit schedule data has done in cities across the U.S.?

6. Next generation broadband systems are expected to have efficient means of implementing Machine-to-Machine (M2M) communications. One example is using embedded modules (small self-contained units with integrated sensor and communications functions) in vehicles to provide information on road, weather, or environmental conditions to traffic management centers or other centralized entities, in a manner transparent to the driver. In this regard, applications using M2M would meet the USDOT objectives concerning distracted driving.

a. What emerging ITS applications would benefit from M2M?

b. What applications could be prototyped or tested in a “living laboratory”?

7. What new commercial vehicle, fleet, rail, or transit safety applications or new methods for operations, based on the availability of broadband wireless that could substantially reduce the cost and improve the quality of regulated commercial vehicle applications? How might such applications be implemented? Which ones might be possible candidates for integration and testing in the near term? Considerations might include:

a. Wireless “fast lanes” supporting real-time safety inspections, reporting, and information access, including at border crossings and in rural areas. Real-time multi-agency access to information at rural and mobile inspection points nationwide could dramatically transform the way freight and motorcoach safety is implemented. The types of information could include carrier and or operator inspection and enforcement data as well as critical safety and lading information (documents issued by a carrier to a shipper, acknowledging that specified goods have been received).

b. Development and implementation of a standardized, secure freight/hazardous materials electronic manifest system.

c. Continuous automated safety monitoring with periodic reporting via broadband wireless, without the use of roadside inspection stations.

d. Cross-agency access to standardized vehicle and operator data for enhanced data sharing and improved mission effectiveness.

8. How might a future commercial broadband service address connected vehicle applications: (http://www.its.dot.gov/connected_vehicle/connected_vehicle_apps.htm), and what action could the USDOT take to ensure that industry addresses these requirements? For example:

a. What is required from a commercial broadband service in terms of reliability and resilience to ensure it would be available during emergencies and disasters to support transportation services?

b. What technologies such as mesh or ad-hoc networking or innovative use of relays, femtocells (which are small base stations attached to a fixed broadband connection), or Wi-Fi access points could be used to demonstrate an increase in network resilience for transportation applications?

c. What such applications, technologies and techniques might be prototyped and tested in a “living laboratory” over the next five years?

9. Security standards may need to incorporate techniques to provide anonymity and defeat tracking attempts against individual drivers when using connected vehicle applications or global positioning systems (GPS). Commercial broadband networks are designed to provide location information for emergency response (E911 and NG911) and are increasingly implementing applications using location-based services that specifically track user and/or vehicle locations. These features might limit the suitability of commercial broadband networks for some applications, especially those that may be potentially mandatory and/or government-sponsored

a. What types of ITS applications, especially those that may be potentially mandatory or government-sponsored, might make use of commercial broadband networks?

b. What policy initiatives and possible technical features will need to be implemented to assure users that their privacy is protected regardless of which communications network (or networks) is used?

10. What actions should the USDOT take, either from a technical or policy perspective, to encourage development of integrated, multi-platform wireless devices (e.g. Dedicated Short Range Communications (DSRC)/4G) for vehicles, mobile devices, and roadside equipment?

11. What other broadband technologies or applications would provide substantial public benefits and testing or deployment of which would be accelerated by WIN funding?

12. Security standards for vehicle-to-vehicle and vehicle-to-infrastructure communications may require techniques for authenticating messages, including verifying the authority to send various classes of messages and the source of the messages. They may also include techniques to encrypt messages if needed.

a. What transportation applications might require such security features when implemented on commercial networks, and what attributes might the applications require (for example, authentication, data integrity, non-repudiation, etc.)?

b. Could widespread broadband wireless capability be leveraged to address the security requirements transportation and/or other non-transportation applications?

Issued in Washington, DC, on the 5th day of May 2011.
John Augustine,
Managing Director, ITS Joint Program Office.

[FR Doc. 2011-11653 Filed 5-11-11; 8:45 am]

BILLING CODE 4910-HY-P